DEPARTMENT OF COMMERCE

Census Bureau

Agency Information Collection Activities; Submission to the Office of Management and Budget (OMB) for Review and Approval; Comment Request; 2020 Post-Census Group Quarters Review

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 19, 2021, during a 60-day comment period. This notice allows for an additional 30 days for public comments.

Agency: U.S. Census Bureau.

Title: 2020 Post-Census Group Quarters Review.

OMB Control Number: 0607-XXXX.

Form Number(s): None.

Type of Request: Regular submission, New Information Collection.

Number of Respondents: 1,500.

Average Hours per Response: 5.2.

Burden Hours: 7,800.

Needs and Uses:

Introduction

The 2020 Post-Census Group Quarters Review (PCGQR) provides a mechanism for governmental units (GUs) to request a review of their official 2020 Census results, specifically those for the population in group quarters (GQs). Please note, the population counts for a census block or other geographic units below the state level may seem inaccurate due to disclosure avoidance measures the Census Bureau applies to the published data. Population counts at the block level have the most “noise” of any geographic level due to disclosure avoidance to protect against data disclosure. Additional information on disclosure avoidance is available at the following URL: https://www.census.gov/programs-surveys/decennial-census/decade/2020/planning-management/process/disclosure-avoidance.html.

The Census Bureau will accept 2020 PCGQR cases from tribal, state, and local governmental units from June 2022 through June 30, 2023. The eligible governmental units and geographies are the same as for the 2020 Census Count Question Resolution (CQR) Program <https://www.census.gov/programs-surveys/decennial-census/decade/2020/planning-management/evaluate/cqr.html>. The Census Bureau will conduct the 2020 PCGQR case research by examining the 2020 Census records for the 2020 tabulation block(s) identified in the 2020 PCGQR case. All population counts are current as of April 1, 2020. Revised GQ population counts will be provided to the Census Bureau's Population Estimates Program where they will be included in the baseline data used to produce upcoming annual population estimates. Corresponding changes to demographic characteristics will be incorporated into subsequent rounds of estimates. The estimates developed from the updated population base will also be used by the American Community Survey (ACS) and the Puerto Rico Community Survey (PRCS). After the new annual estimates are available to the public on the regularly scheduled release dates, certified group quarters population counts can be provided by request to the highest elected official of the governmental unit. No new 2020 Census information products will be created by the 2020 PCGQR. This includes no revisions to 2020 Census information products such as the counts delivered to the President for apportionment or the 2020 Census Public Law 94-171 Redistricting Data Files and Geographic Products.

Once a resolution is determined for each case, the Census Bureau will respond to the governmental unit in writing with an official determination letter, even if the case is determined to be out of scope or if no corrections are warranted. The Census Bureau will attempt to respond to each inquiry within 90 days of receipt and complete all case research and resolution by no later than September 30, 2023.

Eligible Participants and Geographies

The Census Bureau will only accept cases from the eligible participants listed below or their designee. Details on how to designate someone else to submit on a government's behalf will be explained further in the guides that will be posted on the 2020 PCGQR website. The Census Bureau will not accept cases from any other type of statistical or legally defined areas, or any other individual, group, or organization not included in this list.

1. Tribal areas, including federally recognized American Indian tribes with reservation and/or off-reservation trust lands, Alaska Native Regional Corporations, and Alaska Native villages.

2. States and equivalent entities (e.g., District of Columbia and Puerto Rico).

3. Counties and equivalent entities (e.g., parishes in Louisiana, boroughs in Alaska, municipios in Puerto Rico).

4. Minor civil divisions (e.g., townships).

5. Consolidated cities.

6. Incorporated places (e.g., villages, towns, cities).

2020 Post-Census Group Quarters Review Case Type

Group Quarters Population cases—request a Census Bureau review of group quarters population counts by block to correct error(s) affecting their population during the 2020 Census for a valid group quarter (i.e., group quarters that existed and available for occupancy on April 1, 2020). Submissions should be consistent with the 2020 Census Residence Criteria and Residence Situations and additional guidance provided by the Census Bureau due to the COVID-19 pandemic.

2020 Post-Census Group Quarters Review Case Submission

To determine whether submitting a Post-Census Group Quarters Review case is necessary, governmental units need to review their group quarters population counts in the published Census Bureau data. The Census Bureau recommends a review of the Public Law 94-171 data tables to review their counts population of group quarters by type of group quarters (Table P5). These data are available on https://data.census.gov/cedsci.

To submit any Post-Census Group Quarters Review case, the governmental units must use the Secure Web Incoming Module (SWIM), available at respond.census.gov/swim.

Post-Census Group Quarters Review Case Disposition

If the population count is corrected, the count will be sent to the Census Bureau's Population Estimates Program to be included in the baseline data used to produce upcoming annual population estimates. Updated data will be included in the next possible population base as the production schedule allows. Corresponding changes to demographic characteristics will be incorporated into subsequent rounds of estimates. The estimates developed from the updated population base will also be used by the American Community Survey and the Puerto Rico Community Survey. Data received as part of a 2020 PCGQR cases is not shared with anyone outside of the staff involved with 2020 PCGQR processing.

The Census Bureau will not modify the 2020 Census apportionment counts and will not incorporate 2020 PCGQR corrections into the 2020 Census data summary files and tables or retabulate any of the other 2020 Census data products.

Affected Public: Tribal, state, or local governmental units in the United States and Puerto Rico.

Frequency: One time.

Respondent's Obligation: Voluntary.

Legal Authority: Title 13 U.S.C. Section 6.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2022-06038 Filed 3-21-22; 8:45 am]

BILLING CODE 3510-07-P